SMALL BUSINESS ADMINISTRATION

[Disaster Declaration #13999 and #14000]

Texas Disaster #TX-00433

AGENCY: U.S. Small Business Administration.

ACTION: Amendment 1.

SUMMARY: This is an amendment of the Administrative disaster declaration for the State of TEXAS dated 05/20/2014.

Incident: Wildfires.

Incident Period: 05/11/2014 and continuing through 05/14/2014.

Effective Date: 06/30/2014.

Physical Loan Application Deadline Date: 07/21/2014.

Economic Injury (EIDL) Loan Application Deadline Date: 02/20/2015.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW., Suite 6050, Washington, DC 20416.

SUPPLEMENTARY INFORMATION: The notice of the Administrative disaster declaration for the State of Texas, dated 05/20/2014 is hereby amended to establish the incident period for this disaster as beginning 05/11/2014 and continuing through 05/14/2014.

All other information in the original declaration remains unchanged.

(Catalog of Federal Domestic Assistance Numbers 59002 and 59008)

Dated: June 30, 2014.
Maria Contreras-Sweet,
Administrator.

[FR Doc. 2014-15820 Filed 7-7-14; 8:45 am]

BILLING CODE 8025-01-P